ENVIRONMENTAL PROTECTION AGENCY

[FRL-9254-5]

Science Advisory Board Staff Office; Notification of a Public Teleconference of the Science Advisory Board Nutrient Criteria Review Panel

Correction

In notice document 2011-1014 beginning on page 3133 in the issue of Wednesday, January 19, 2011, make the following corrections:

1. On page 3133, in the third column, in lines 25 through 28, “http://yosemite.epa.gov/sab/sabproduct.nsf/fedrgstr_activities/FL%20Estuaries%20TSD?OpenDocument” should read “http://yosemite.epa.gov/sab/sabproduct.nsf/fedrgstr_activites/FL%20Estuaries%20TSD?OpenDocument.”

2. On the same page, in the same column, in lines 45 through 47, “http://yosemite.epa.gov/sab/sabproduct.nsf/fedrgstr_activities/FL%20Estuaries%20TSD?OpenDocument” should read “http://yosemite.epa.gov/sab/sabproduct.nsf/fedrgstr_activites/FL%20Estuaries%20TSD?OpenDocument”.

[FR Doc. C1-2011-1014 Filed 1-25-11; 8:45 am]

BILLING CODE 1505-01-D